NATIONAL SCIENCE FOUNDATION

Agency Information Collection Activities: Comment Request

AGENCY: National Science Foundation.

ACTION: Submission for OMB review; comment request.

SUMMARY: Under the Paperwork Reduction Act of 1995, Pub. L. 104-13 (44 U.S.C. 3501 et seq.), and as part of its continuing effort to reduce paperwork and respondent burden, the National Science Foundation (NSF) is inviting the general public and other Federal agencies to comment on this proposed continuing information collection. This is the second notice for public comment; the first was published in the Federal Register at 66 FR 65748 and no comments were received. NSF is forwarding the proposed submission to the Office of Management and Budget (OMB) for clearance simultaneously with the publication of this second notice.

DATES: Comments regarding these information collections are best assured of having their full effect if received by OMB within 30 days of publication in the Federal Register.

ADDRESSES: Written comments regarding (a) whether the collection of information is necessary for the proper performance of the functions of NSF, including whether the information will have practical utility; (b) the accuracy of NSF's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Suzanne H. Plimpton, Reports Clearance Officer, National Science Foundation, 4201 Wilson Boulevard, Suite 295, Arlington, Virginia 22230 or send e-mail to splimpto@nsf.gov. Copies of the submission may be obtained by calling (703) 292-7556.

FOR FURTHER INFORMATION CONTACT: Suzanne H. Plimpton, NSF Reports Clearance Office at (703) 292-7556 or send e-mail to splimpto@nsf.gov.

An agency may not conduct or sponsor a collection of information unless the collection of information displays a currently valid OMB control number and the agency informs potential persons who are to respond to the collection of information that such persons are not required to respond to the collection of information unless it displays a currently valid OMB control number.

SUPPLEMENTARY INFORMATION: Title of Collection: The Evaluation of the Preparing Future Faculty (PFF) Program.

OMB Control No.: 3145-NEW.

Abstract: This document has been prepared to support the clearance of data collection instruments to be used in the evaluation of the Preparing Future Faculty (PFF) Program, funded since 1993 by The PEW Charitable Trust, the National Science Foundation, and an anonymous donor. PFF is designed to change the culture of graduate education in order to produce faculty for colleges and universities who are fully prepared for teaching and service responsibilities as well as the research role.

Data will be collected using Web-based surveys and conducting institutional site visits for six selected case studies. Titles of the survey instruments and interview protocol for the PFF Evaluation are as follows:

• PFF Partner Faculty Survey

• PFF Graduate Faculty Survey

• PFF Participant Survey (Graduate Students)

• PFF Site Visit Protocol (for case studies)

NSF will use this collection to evaluate the impact and effectiveness of the Preparing Future Faculty Program on graduate education and the development of future professors.

2. Expected Respondents: The expected respondents are project directors, deans, and graduate student participants at PFF grantee institutions as well as faculty associated directly with the PFF program at both graduate institutions and partner institutions.

3. Burden on the Public: The remaining elements for this collection represent 734 burden hours for a maximum of 3840 participants over two years, assuming an 80-100% response rate. The burden on the public is negligible; the study is limited to project participants that have directly received funding from or otherwise have benefited from participation in the PFF program.

Dated: May 7, 2002.
Suzanne H. Plimpton,
Reports Clearance Officer, National Science Foundation.

[FR Doc. 02-11913 Filed 5-10-02; 8:45 am]

BILLING CODE 7555-01-M